DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new modified, discontinued, or completed since the last publication of this notice on January 31, 2002. The January 31, 2002, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 352 FR 11954, April 13, 1987, Reclamation will publish notice of the proposed or amendatory contract actions for any contract for the delivery of project water for authorized uses in newspapers of general circulation in the affected area at least 60 days prior to contract execution. Pursuant to the “Final Revised Public Participation Procedures” for water resource-related contract negotiations, published in 347 FR 7763, February 22, 1982, a tabulation is provided of all proposed contractual actions in each of the five Reclamation regions. Each proposed action is, or is expected to be, in some stage of the contract negotiation process in 2002. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

BON Basis of Negotiation

BCP Boulder Canyon Project

Reclamation Bureau of Reclamation

CAP Central Arizona Project

CUP Central Utah Project

CVP Central Valley Project

CRSP Colorado River Storage Project

D&MC Drainage and Minor Construction

FR Federal Register

IDD Irrigation and Drainage District

ID Irrigation District

M&I Municipal and Industrial

NEPA National Environmental Policy Act

O&M Operation and Maintenance

P-SMBP Pick-Sloan Missouri Basin Program

PPR Present Perfected Right

RRA Reclamation Reform Act

R&B Rehabilitation and Betterment

SOD Safety of Dams

SRPA Small Reclamation Projects Act

WCUA Water Conservation and Utilization Act

WD Water District

Pacific Northwest Region: Bureau of Reclamation, 1150 North Curtis Road, Suite 100, Boise, Idaho 83706-1234, telephone 208-378-5223.

New contract actions:

23. Emmett ID and 12 individual contract spaceholders, Boise Project, Payette Division, Idaho: Repayment agreements or contracts for reimbursable costs of SOD modifications to Deadwood Dam.

24. Greenberry ID, Willamette Basin Project, Oregon: Irrigation water service contract for approximately 7,500 acre-feet of project water.

Discontinued contract actions:

7. U. S. Fish and Wildlife Service and Boise-Kuna ID, Boise Project, Idaho: Memorandum of agreement for the use of approximately 400 acre-feet of storage space annually in Anderson Ranch Reservoir. Water to be used for wildlife mitigation purposes (ponds and wetlands).

17. Wenatchee Heights Reclamation District, Washington: Deferment contract for the deferment of the District's annual installments due in 2001 and 2002 under a Drought Act loan contract.

18. Individual irrigation water user, Rogue River Basin Project, Oregon: Water service contract to provide 1,029 acre-feet of stored water from Lost Creek Reservoir (a Corps of Engineers' project) for the purpose of irrigation. Completed contract action:

19. Roza ID, Yakima Project, Washington: Deferment contract for the deferment of the District's 2001 construction obligation under the Drought Act of 1959. Contract executed on February 6, 2002.

Mid-Pacific Region: Bureau of Reclamation, 2800 Cottage Way, Sacramento, California 95825-1898, telephone 916-978-5250. New contract action:

39. Sacramento River Settlement Contracts, CVP, California: Up to 145 contracts and one contract with Colusa Drain Mutual Water Company will be renewed; water quantities for these contracts total 2.2M acre-feet. Colusa Drain Mutual Water Company will be renewed for a period of 25 years, and the rest will be renewed for a period of 40 years. These contracts reflect an agreement to settle water rights' claims on the Sacramento River.

Modified contract action:

2. Contractors from the American River Division, Cross Valley Canal, Delta Division, Friant Division, Sacramento River Division, San Felipe Division, Shasta Division, Trinity River Division, and West San Joaquin Division, CVP, California: Early renewal of existing long-term contracts; long-term renewal of the interim renewal water service contracts expiring in 2003; water quantities for these contracts total in excess of 3.4M acre-feet. These contract actions will be accomplished through long-term renewal contracts pursuant to Public Law 102-575. Prior to completion of negotiation of long-term renewal contracts, existing interim renewal water service contracts may be renewed through successive interim renewal of contracts.

Completed contract actions:

12. Cachuma Operations and Maintenance Board, Cachuma Project, California: Temporary interim contract (not to exceed 1 year) to transfer responsibility of certain Cachuma Project facilities to member units. Temporary interim contract executed on January 1, 2002, and expires on June 30, 2002.

15. Placer County Water Agency, CVP, California: Amendment of existing water service contract to allow for additional points of diversion and adjustment to CVP water quantities. The amended contract will conform to current Reclamation law. Amendatory contract executed on February 26, 2002.

Lower Colorado Region: Bureau of Reclamation, PO Box 61470 (Nevada Highway and Park Street), Boulder City, Nevada 89006-1470, telephone 702-293-8536. New contract action

47. Citizens Communications Company (Agua Fria Division), CAP, Arizona: Assignment of M&I water service subcontract rights and responsibilities to Arizona American Water Company (Sun City).

Modified contract action:

25. Phelps Dodge Miami, Inc., CAP, Arizona: Amendment of subcontract to extend the deadline until December 31, 2002, for giving notice of termination on exchange.

Completed contract actions:

28. Coachella Valley WD, BCP, California: Amend contract No. 14-20-650-631 with Coachella Valley WD to include additional lands on the Torres Martinez Indian Reservation that are located within the District's Improvement District No. 1 which were reclassified and determined to be arable.

31. San Carlos Apache Tribe, CAP, Arizona: Agreement among the San Carlos Apache Tribe, the Salt River Project, and the United States, for exchange of up to 14,000 acre-feet of Black River water for CAP water.

32. San Carlos Apache Tribe, Arizona: Agreement among the San Carlos Apache Tribe, the United States, and the Phelps Dodge Corporation for the lease of CAP water.

Upper Colorado Region: Bureau of Reclamation, 125 South State Street, Room 6107, Salt Lake City, Utah 84138-1102, telephone 801-524-4419.

New contract actions:

1. (f) David W. and Rebecca A. Dennis: Aspinall Unit, CRSP; Colorado: Contract for 1 acre-foot to support an augmentation plan, Case No. 01CW84, Water Division Court No. 4, State of Colorado, to provide for a single-family residential well, including in-house residential, limited lawn, pond evaporation, and livestock watering (non-commercial).

1. (g) United States Fish and Wildlife Service: Aspinall Unit, CRSP; Colorado: Contract for 25 acre-feet to support an augmentation plan to provide water for the Hotchkiss Fish Hatchery ponds, used to grow out endangered fish, a part of the Endangered Fish Recovery Program.

18. LeChee Chapter of the Navajo Nation, Glen Canyon Unit, CRSP, Arizona: Long-term contract for 950 acre-feet of water for municipal purposes.

19. Ute Mountain Ute Tribe, Dolores Project, Colorado: Short-term (5-year) carriage contract with the Ute Mountain Ute Tribe to carry up to 3,500 acre-feet of non-project water in project facilities under the authority of the Warren Act of 1911.

20. Pine River ID, Pine River Project, Colorado: Contract to allow the District to convert up to approximately 3,000 acre-feet of project irrigation water to municipal, domestic, and industrial uses.

Modified contract action:

2. Taos Area, San Juan-Chama Project, New Mexico: The United States is reserving 2,990 acre-feet of project water for potential use in an Indian water rights settlement in the Taos, New Mexico area.

Completed contract actions:

1. (c) Larry Allen: Aspinall Unit, CRSP; Colorado: Contract for 1 acre-foot to support an augmentation plan, Case No. 01CW26, Water Division Court No. 4, State of Colorado, to provide for a single-family residential well, including home lawn and livestock watering (non-commercial). Contract was executed March 20, 2002.

1. (d) Karl Hipp: Aspinall Unit, CRSP; Colorado: Contract for 1 acre-foot to support an augmentation plan, Case No. 01CW27, Water Division Court No. 4, State of Colorado, to provide for a single-family residential well, including home lawn and livestock watering (non-commercial). Contract was executed March 4, 2002.

1. (e) Oliver Woods: Aspinall Unit, CRSP; Colorado: Contract for 1 acre-foot to support an augmentation plan, Case No. 01CW14, Water Division Court No. 4, State of Colorado, to provide for a single-family residential well, including home lawn and livestock watering (non-commercial). Contract was executed March 20, 2002.

16. San Juan Water Commission, New Mexico, Animas-La Plata Project, Colorado and New Mexico: Cost sharing/repayment contract for up to 20,800 acre-feet per year of M&I water; contract terms to be consistent with the Colorado Ute Settlement Act Amendments of 2000 (Title III of Public Law 106-554). Contract was executed March 5, 2002.

Great Plains Region: Bureau of Reclamation, PO Box 36900, Federal Building, 316 North 26th Street, Billings, Montana 59107-6900, telephone 406-247-7730.

New contract actions:

41. Miles Land and Livestock Co. (Individual), Kendrick Project, Alcova Reservoir, Wyoming: Negotiate long-term contract for annual conveyance of up to 153.27 acre-feet of non-project water through the Casper Canal, Wyoming.

42. Helena Valley Unit, P-SMBP, Montana: The long-term water service contract with the City of Helena, Montana, expires December 31, 2003. Initiating negotiations for contract renewal for an annual supply of raw water for domestic and M&I use from Helena Valley Reservoir not to exceed 5,680 acre-feet of water annually.

Modified contract actions:

17. Lower Marias Unit, P-SMBP, Montana: Water service contract with Robert A. Sisk expired in July 1998. Initiating long-term contract for the use of up to 600 acre-feet of storage water from Tiber Reservoir to irrigate 220 acres. Temporary/interim contracts are being issued to allow continued delivery of water and the time necessary to complete required actions for the long-term contract process.

18. Lower Marias Unit, P-SMBP, Montana: Initiating renewal of long-term water service contract with Julie Peterson for the use of up to 717 acre-feet of storage water from Tiber Reservoir to irrigate 239 acres. Temporary/interim contracts are being issued to allow continued delivery of water and the time necessary to complete required actions for the long-term contract process.

19. Lower Marias Unit, P-SMBP, Montana: Water service contract with Ray Morkrid as Morkrid Enterpirses expired May 1998. Initiating long-term contract for the use of up to 6,855 acre-feet of storage water from Tiber Reservoir to irrigate 2,285 acres. Temporary/interim contracts are being issued to allow continued delivery of water and the time necessary to complete required actions for the long-term contract process.

27. Helena Valley Unit, P-SMBP, Montana: Initiating negotiations with Helena Valley ID for renewal of Part A of the A/B contract which expires in 2004.

28. Crow Creek Unit, P-SMBP, Montana: Initiating negotiations with Toston ID for renewal of Part A of the A/B contract which expires in 2004.

32. City of Dickinson, P-SMBP, Dickinson Unit, North Dakota: Negotiate a long-term water service contract with the City of Dickinson or Park Board, for minor amounts of water from Dickinson Dam. Temporary contract will be negotiated with Park Board and with the City of Dickinson for minor amounts of water from Dickinson Dam.

37. Lower Marias Unit, P-SMBP, Montana: Initiating long-term water service contract with Allen Brown as Tiber Enterprises for up to 910 acre-feet of storage from Tiber Reservoir to irrigate 303.2 acres. Temporary/interim contracts are being issued to allow continued delivery of water and the time necessary to complete required actions for the long-term contract process.

Discontinued contract action:

10. Northwest Area Water Supply, North Dakota: Long-term contract for water supply from Garrison Diversion Unit facilities. The State has decided not to contract at this time. A special use permit will be issued.

Completed contract actions:

29. Louis F. Polk, Jr. (Individual), Shoshone Project, Buffalo Bill Dam, Wyoming: Renewal of exchange water service contract not to exceed 500 acre-feet of water to service 249 acres. Renewal of exchange water service contract has been executed.

36. City of Dickinson, P-SMBP, North Dakota: In accordance with Public Law 106-566, a BON has been prepared to amend contract No. 9-07-60-W0384 which will allow the City to pay a lump-sum payment in lieu of its remaining repayment obligation for construction costs associated with the bascule gate. The BON has been approved by the Commissioner. The City of Dickinson paid out with a lump-sum payment.

38. Tom Green County Water Control and Improvement District No. 1, San Angelo Project, Texas: The District has requested deferment of its 2002 repayment obligation. A BON has been prepared to amend contract No. 14-06-500-369. Contract was executed March 15, 2002.

Dated: April 4, 2002.
Elizabeth Cordova-Harrison,
Deputy Director, Office of Policy.

[FR Doc. 02-10132 Filed 4-24-02; 8:45 am]

BILLING CODE 4310-MN-P